DEPARTMENT OF HEALTH AND HUMAN SERVICES

Health Resources and Services Administration

Agency Information Collection Activities: Submission to OMB for Review and Approval; Public Comment Request; Information Collection Request Title: Telehealth Resource Center Performance Measurement Tool, OMB No. 0915-0361—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than March 7, 2019.

ADDRESSES: Submit your comments, including the Information Collection Request Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer, at paperwork@hrsa.gov or call (301) 443-1984.

SUPPLEMENTARY INFORMATION: When submitting comments or requesting information, please include the information request collection title for reference.

Information Collection Request Title: Telehealth Resource Center Performance Measurement Tool, OMB No. 0915-0361, Revision

Abstract: To ensure the best use of public funds and to meet the Government Performance Review Act requirements, the Office for the Advancement of Telehealth (OAT) in collaboration with the Telehealth Resource Centers (TRCs) created a set of performance measures that grantees can use to evaluate the technical assistance services provided by the TRCs. Grantee goals are to provide customized telehealth technical assistance across the country. The TRCs provide technical assistance to health care organizations, health care networks, and health care providers in the implementation of cost-effective telehealth programs to serve rural and medically underserved areas and populations.

Need and Proposed Use of the Information: In order to evaluate existing programs, data are submitted to OAT through HRSA's Performance Improvement Management System (PIMS). The data are used to measure the effectiveness of the technical assistance. There are two data reporting periods each year; during these biannual reporting periods data are reported for the previous six months of activity. Programs have approximately six weeks to enter their data into the PIMS system during each biannual reporting period.

The instrument was developed with the following four goals in mind:

1. Improving access to needed services;

2. Reducing rural practitioner isolation;

3. Improving health system productivity and efficiency; and

4. Improving patient outcomes.

The TRCs currently report on existing performance data elements using PIMS. The performance measures are designed to assess how the TRC program is meeting its goals to:

1. Expand the availability of telehealth services in underserved communities;

2. Improve the quality, efficiency, and effectiveness of telehealth services;

3. Promote knowledge exchange and dissemination about efficient and effective telehealth practices and technology; and

4. Establish sustainable technical assistance (TA) centers providing quality, unbiased TA for the development and expansion of effective and efficient telehealth services in underserved communities.

Additionally, the PIMS tool allows OAT to:

1. Determine the value added from the TRC Cooperative Agreement;

2. Justify budget requests;

3. Collect uniform, consistent data which enables OAT to monitor programs;

4. Provide guidance to grantees on important indicators to track over time for their own internal program management;

5. Measure performance relative to the mission of OAT/HRSA as well as individual goals and objectives of the program;

6. Identify topics of interest for future special studies; and

7. Identify changes in healthcare needs within rural communities, allowing programs to shift focus in order to meet those needs.

This renewal request proposes changes to existing measures. After compiling data from the previous tool over the last three years, OAT conducted an analysis of the data and compared the findings with the program needs. Based on the findings, the measures are being revised to better capture information necessary to measure the effectiveness of the program. The measure changes include: additional demographic details from organizations requesting technical assistance, streamlined methods of inquiry; additional topics of technical assistance inquiries aligning with the current telehealth landscape; streamlined types of services provided by the grantees; deletion of client satisfaction survey results; and deletion of telehealth sites developed as a result of grantee technical assistance. A 60-day Federal Register Notice was published in the Federal Register on April 9, 2018, vol. 83, No. 68; pp. 15164-65. There were no public comments.

Likely Respondents: The likely respondents will be telehealth associations, telehealth providers, rural health providers, clinicians that deliver services via telehealth, technical assistance providers, research organizations, and academic medical centers.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Telehealth Resource Center Performance Data Collection | 14 | 42 | 588 | 0.07 | 41
Total | 14 |  | 588 |  | 41

Amy P. McNulty,
Acting Director, Division of the Executive Secretariat.

[FR Doc. 2019-01107 Filed 2-4-19; 8:45 am]

BILLING CODE 4165-15-P